DEPARTMENT OF COMMERCE

Foreign-Trade Zones Board

[Docket No. 61-2003]

Foreign-Trade Zone 77—Memphis, TN; Expansion of Manufacturing Authority—Subzone 77A, Sharp Manufacturing Company of America (Consumer and Business Electronics) Shelby County, TN

An application has been submitted to the Foreign-Trade Zones Board (the Board) by the City of Memphis, Tennessee, grantee of FTZ 77, requesting to expand the scope of manufacturing authority under zone procedures within Subzone 77A, at the Sharp Manufacturing Company of America facilities in Shelby County, Tennessee. It was formally filed on November 6, 2003.

Subzone 77A was approved by the Board in 1984 at 2 sites (107 acres) in the Memphis area (Shelby County), Tennessee, with authority originally granted for the manufacture of television and microwave ovens (Board Order 265, 49 FR 28589, 07/13/84), and later expanded to include personal computers, printers, and printed circuit boards (Board Order 653, 58 FR 47859, 09/13/93).

Subzone 77A (600 employees, with projections to 730 by 2005) is currently requesting to expand the scope of authority for manufacturing activity conducted under FTZ procedures to include the assembly of multifunction office machines and accessories (HTSUS 8471.60, 8471.70, 8471.80, 8472.90 and 8473.50, all duty-free) and photovoltaic cells and modules (HTSUS 8541.40, duty-free), using foreign and domestic materials. Foreign-sourced components used in the assembly of multifunction office machines include printer engines, controller boards, and printer parts and accessories (HTSUS 8472.90.80000, 8473.40.1000, 8473.40.8000), and would account for some 95 percent of finished product value. Foreign-sourced components used in the assembly of photovoltaic modules include photovoltaic cells, module frames and interconnectors, terminal boxes, PET sheets, gaskets, tape and resins (HTSUS 8541.40.6030, 8541.90.0000, 8536, 3920.62.0000, 4016.92, 3919, 3909), and would account for approximately 20 percent of finished product value. Photovoltaic module components having an inverted tariff would comprise some 5 percent of the value of the finished product.

Zone procedures would exempt Sharp from Customs duty payments on foreign materials used in production for export. On domestic sales, the company would be able to defer Customs duty payments on foreign materials. On domestic shipments of photovoltaic modules, the company would be able to choose the duty rate that applies to finished products (duty-free) instead of the rate otherwise applicable to the foreign components (duty-free to 6.5%). In addition, Sharp may realize logistical/procedural and other benefits from subzone status. The application indicates that the savings from zone procedures would help improve Sharp's international competitiveness.

In accordance with the Board's regulations, a member of the FTZ staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is January 20, 2004. Rebuttal comments in response to material submitted during the foregoing period may be submitted during the subsequent 15-day period (to December 4, 2003).

A copy of the request will be available for public inspection at the Office of the Foreign-Trade Zones Board's Executive Secretary at address Number 1 listed above and at the U.S. Department of Commerce Export Assistance Center, Buckman Hall, Suite 328, 650 East Parkway South, Memphis, TN 38104.

Dated: November 6, 2003.
Dennis Puccinelli,
Executive Secretary.

[FR Doc. 03-28806 Filed 11-18-03; 8:45 am]

BILLING CODE 3510-DS-P